DEPARTMENT OF AGRICULTURE

Commodity Credit Corporation

Notice of Revision of a Currently Approved Information Collection

AGENCY: Commodity Credit Corporation, USDA.

ACTION: Notice and request for comments.

SUMMARY: In accordance with the Paperwork Reduction Act of 1995, this notice announces the intention of the Commodity Credit Corporation (CCC) to request a revision for a currently approved information collection in support of the CCC's Dairy Export Incentive Program (DEIP) based on re-estimates. Although the Export Enhancement Program (EEP) was repealed by the Food, Conservation and Energy Act of 2008, the regulations for EEP, found at 7 CFR part 1494, subpart B, also apply to the DEIP. The request for revision of this information collection applies only to DEIP.

DATES: Comments on this notice must be received by February 19, 2013 to be assured of consideration.

Additional Information or Comments: Contact Mark Rowse, Director, Credit Programs Division, Foreign Agricultural Service, U.S. Department of Agriculture, AgStop 1025, Washington, DC 20250-1025, telephone (202) 720-6211.

SUPPLEMENTARY INFORMATION: Title: Dairy Export Incentive Program (DEIP).

OMB Number: 0551-0028.

Expiration Date of Approval: March 31, 2013.

Type of Request: Revision of a currently approved information collection.

Abstract: The major objective of the DEIP is to expand U.S. agricultural exports by paying cash to exporters as bonuses, allowing them to sell U.S. agricultural products in targeted countries at competitive prices. When the program is operational, approximately 100 countries and 3 regions are targeted export destinations. Approximately 425 exporters are currently eligible to participate under the DEIP.

Under 7 CFR part 1494, exporters are required to submit the following: (1) Information required for program participation (section 1494.301), (2) performance security (section 1494.401), (3) export sales information in connection with applying for a CCC bonus (section 1494.501), and (4) documentation evidencing export to support payment of the bonus (section 1494.701). In addition, each exporter must maintain accurate records showing sales and deliveries of the eligible commodity exported in connection with an agreement made under the DEIP as outlined in section 1494.1001. The information collected is used by CCC to manage, plan for, evaluate the use of, and account for Government resources. The reports and records are required to ensure the proper and judicious use of public funds.

Estimate of Burden: The public reporting burden for these collections is estimated to average 37 minutes per response.

Respondents: Exporters of U.S. agricultural commodities.

Estimated Number of Respondents: 20 per annum.

Estimated Number of Responses per Respondent: 84 per annum.

Estimated Total Annual Burden on Respondents: 1,036 hours.

Copies of this information collection can be obtained from Connie Ehrhart, the Agency Information Collection Coordinator, at (202) 690-1578.

Requests for comments: Send comments regarding (a) Whether the proposed collection of information is necessary for the proper performance of the functions of the agency, including whether the information will have practical utility; (b) the accuracy of the agency's estimate of the burden of the proposed collection of information; (c) ways to enhance the quality, utility and clarity of the information to be collected; and (d) ways to minimize the burden of the collection of information on those who are to respond, including through the use of automated, electronic, mechanical, or other technological collection techniques or other forms of information technology. Comments may be sent to Mark Rowse, Director, Credit Programs Division, Foreign Agricultural Service, U.S. Department of Agriculture, AgStop 1025, Washington, DC 20250-1025, telephone (202) 720-6211, or to the Desk Officer for Agriculture, Office of Information and Regulatory Affairs, Office of Management and Budget, Washington, DC 20503.

All responses to this notice will be summarized and included in the request for OMB approval. All comments will also become a matter of public record.

Signed at Washington, DC, on October 5, 2012.
Janet Nuzum,
Administrator, Foreign Agricultural Service, and Vice President, Commodity Credit Corporation.

[FR Doc. 2012-30485 Filed 12-17-12; 8:45 am]

BILLING CODE 3410-10-P